Title 3—

The President

Memorandum of February 3, 2006

Assignment of Certain Reporting Function

Memorandum for the Secretary of Labor

By the authority vested in me as President by the Constitution and laws of the United States, including section 301 of title 3, United States Code, I hereby assign to you the function of the President contained within section 401(c) of the National Emergencies Act (50 U.S.C. 1641(c)), to provide the specified final report to the Congress in relation to Proclamation 7959 of November 3, 2005.

This function may be further delegated to the Deputy Secretary of Labor.

You are authorized and directed to publish this memorandum in the Federal Register.

B

THE WHITE HOUSE,

Washington, February 3, 2006.

[FR Doc. 06-1222

Filed 2-7-06; 8:45 am]

Billing code 3195-01-P